ENVIRONMENTAL PROTECTION AGENCY

[ER-FRL-6690-6]

Notice of Intent: Intent To Prepare a Supplemental Environmental Impact Statement (EIS) for the Red Dog Mine Extension—Aqqaluk Project in Northwestern Alaska

AGENCY: U.S. Environmental Protection Agency.

Purpose: In accordance with Section 102(2)(C) of the National Environmental Policy Act (NEPA), EPA, as the lead federal agency, has identified a need to prepare a supplemental EIS and therefore issues this Notice of Intent in accordance with 40 CFR 1501.7.

For a copy of the scoping document and to be placed on the project mailing list contact: Patty McGrath, Project Manager, Office of Water and Watersheds (OWW-135), U.S. EPA Region 10, 1200 Sixth Avenue, Seattle, Washington 98101, Telephone: (206) 553-0979, Fax: (206) 553-0165, E-mail: mcgrath.patricia@epa.gov.

SUMMARY: The Red Dog Mine is an operating mine located in northwestern Alaska, approximately 82 miles north of Kotzebue. The mine is operated by Teck Cominco Alaska Incorporated (TCAK) under an Operating Agreement with the NANA Regional Corporation, the landowner. The Red Dog Mine includes an open pit lead-zinc mine, mill, tailings impoundment, waste rock storage areas, and support facilities. Lead and zinc concentrates are trucked 52 miles from the mine site to the DeLong Mountain Regional Transportation System port facility located on the Chukchi Sea. Nineteen miles of the road passes through Cape Krusenstern National Monument. The mine has been operating since 1989. TCAK has proposed to begin mining, by 2010, the Aqqaluk deposit which is an extension of the existing mine. TCAK proposes to use the existing mill, tailings impoundment, support facilities, road, and port site. The Aqqaluk deposit would extend the life of the Red Dog Mine to approximately 2031.

The Red Dog Mine project was evaluated in a previous EIS that was issued in 1984. Permits by the applicable state and federal regulatory programs were issued and the mine proceeded to development and operations. The 1984 EIS did not evaluate impacts from mining the Aqqaluk deposit, therefore EPA determined that a supplemental EIS will be prepared for the Aqqaluk proposal. In addition the supplemental EIS will discuss whether significant impacts or changes occurred that were not anticipated in the 1984 EIS.

The administrative actions that the supplemental EIS must address include modifying an existing EPA Clean Water Act (CWA) National Pollutant Discharge Elimination System (NPDES) new source permit for the mine site and issuing a U.S. Army Corps of Engineers CWA Section 404 permit. The U.S. Army Corps of Engineers, the National Park Service, the State of Alaska Department of Natural Resources, the Northwest Arctic Borough, and nine tribal governments (Buckland, Kiana, Kivalina, Kobuk, Kotzebue, Noatak, Noorvik, Selawik, Shungnak) are participating as cooperating agencies in the NEPA process. The Maniilaq Association, a tribal consortium that provides health, social, and tribal services to the region, will represent the nine tribal governments throughout the NEPA process.

Alternatives: The supplemental EIS will evaluate the “no action” alternative. Additional alternatives will be developed in response to issues raised during the scoping process. For example, there may be waste rock and tailings disposal alternatives, water management alternatives, and/or mine closure alternatives that will be evaluated.

Scoping: The public scoping period begins with the publication of this Notice and concludes October 15, 2007. EPA invites Federal agencies, Native Tribes, State and local governments, and members of the public to comment on the scope of the supplemental EIS. Scoping meetings for the purpose of identifying issues to be evaluated in the supplemental EIS will be held in Anchorage on October 2, in Kotzebue on October 3, in Noatak on October 4, and in Kivalina on October 5. The exact locations and times of the meetings will be announced in local papers. The public is invited to attend and identify issues that should be addressed in the SEIS. A scoping document that explains in greater detail the project and alternatives identified at this time will be sent to known interested parties. The public can obtain a copy of the scoping document at the project Web site, www.reddogseis.com, or by contacting Patty McGrath at the phone number, e-mail address, and mailing address listed above in this notice.

How to Comment: EPA invites public comment on the proposed scope of this supplemental EIS. Comments may be submitted by mail, electronic mail, or fax, to Patty McGrath at the contact information above, by close of business October 15, 2007.

Estimated Date of EIS Release: Summer 2008.

Responsible Official: Elin D. Miller, Regional Administrator.

Dated: August 27, 2007.
Anne Norton Miller,
Director, Office of Federal Activities.

[FR Doc. E7-17306 Filed 8-30-07; 8:45 am]

BILLING CODE 6560-50-P